NUCLEAR REGULATORY COMMISSION

[Docket Nos. 50-335 AND 50-389]

Florida Power and Light Company, et al. St. Lucie, Units 1 and 2; Exemption

1.0 Background

The Florida Power and Light Company, et al. (FPL, the applicant) is the holder of Facility Operating License Nos. DPR-67 and No. NPF-16, which authorize operation of St. Lucie, Units 1 and 2, respectively. The licenses provide, among other things, that the facility is subject to all rules, regulations, and orders of the U.S. Nuclear Regulatory Commission (NRC, the Commission) now or hereafter in effect.

The facility consists of two pressurized water reactors located in St. Lucie County, Florida.

2.0 Request/Action

Title 10 of the Code of Federal Regulations (10 CFR), part 54 addresses the various requirements for renewal of operating licenses for nuclear power plants. Section 54.21(b) of 10 CFR specifies:

Each year following submittal of the license renewal application and at least 3 months before scheduled completion of the NRC review, an amendment to the renewal application must be submitted that identifies any change to the CLB [current licensing basis] of the facility that materially affects the contents of the license renewal application, including the FSAR [final safety analysis report] supplement.

In accordance with 10 CFR 54.15, which references 10 CFR 50.12, the NRC staff, upon its own initiative, developed an exemption to 10 CFR 54.21(b) for St. Lucie, Units 1 and 2. At the time that 10 CFR part 54 was issued, the staff expected that its review of a license renewal application (LRA) could take three or more years. The NRC staff completed its reviews of recent LRAs in less than 20 months. The exemption would allow FPL to submit one LRA amendment during the staff's review of the application, instead of two amendments.

The NRC staff anticipates completing its review of the St. Lucie, Units 1 and 2, LRA and issuing a safety evaluation report (SER) by July 3, 2003. This exemption would permit FPL to forgo submitting an annual LRA amendment provided it submits a single LRA amendment for St. Lucie, Units 1 and 2, at least three months before this scheduled completion date.

3.0 Discussion

Pursuant to 10 CFR 54.15, the Commission may, upon application by any interested person or upon its own initiative, grant exemptions from the requirements of 10 CFR part 54, in accordance with the provisions of 10 CFR 50.12, when (1) the exemptions are authorized by law, will not present an undue risk to public health or safety, and are consistent with the common defense and security; and (2) when special circumstances are present.

The requirements for exemption are discussed below:

The Commission's basis for requiring applicants to submit amendments to LRAs is contained in section 54.21(b) and is discussed in the 1991 Statements of Consideration for part 54 (56 FR 64954). The Commission established the requirement to ensure that the effects of changes to the renewal applicant's CLB is evaluated during the review of its renewal application. The exemption is consistent with the Commission's intent for the NRC staff, during its review of the application, to evaluate changes to the CLB of the facility that materially affects the contents of the LRA, including the FSAR supplement.

The exemption seeks only schedular relief regarding the timing and number of amendment submittals, and not substantive relief from the requirements of parts 50, 51, or 54. FPL must still submit an LRA amendment for St. Lucie, Units 1 and 2, as required by 10 CFR part 54. Therefore, the NRC staff finds that granting this schedular exemption will not represent an undue risk to public health and safety and is consistent with the common defense and security.

3.1 Special Circumstances Supporting Issuance of the Exemption

An exemption will not be granted unless special circumstances are present as defined in 10 CFR 50.12(a)(2). Specifically, section 50.12(a)(2)(ii) states that a special circumstance exists when “Application of the regulation in the particular circumstances * * * is not necessary to achieve the underlying purpose of the rule * * *” In initially promulgating section 54.21(b) in 1991, the Commission stated that the purpose of submitting LRA amendments is “To ensure that the effect of changes to a license renewal applicant's existing licensing basis is evaluated during the review of a renewal application, renewal applicants will be required to update the renewal application (including the integrated plant assessment) annually;” (56 FR 64954). The Commission indicated that the changes to the CLB that could affect the results of the license renewal processes, such as, scoping, screening, and aging management reviews should be evaluated during the NRC review of the LRA. As set forth below, the applicant's submittal of a single LRA amendment would allow the NRC staff to review and document the licensing changes in its safety evaluation report (SER) for St. Lucie, Units 1 and 2. Accordingly, under the exemption, the NRC staff will have the opportunity to review the recent changes to the CLB that could affect the results of license renewal processes.

The applicant submitted its LRA for St. Lucie, Units 1 and 2, to the NRC on November 29, 2001. The NRC staff is scheduled to complete its review and the SER by July 3, 2003. In accordance with the requirements of 10 CFR 54.21(b), an applicant must submit a yearly LRA amendment by November 29, 2002, and a second amendment before April 3, 2003, which is three months before the NRC staff is scheduled to complete its review and issue an SER. Consequently, the licensee is required to submit two amendments within four months.

The SER with open items, which is scheduled to be issued by February 7, 2003, will identify proposed licensee commitments that change the CLB and are acceptable to the NRC. The applicant will be able to include these changes in an amendment that is submitted after the SER with open items is issued. The NRC staff can then review these changes and revise the SER, accordingly. Hence, submittal of a single amendment after the SER with open items is issued would be beneficial to the NRC staff and the licensee.

Therefore, submittal of two LRA amendments to satisfy the intent of section 54.21(b) and the application of the regulation, in this case, is not necessary to achieve the underlying purpose of the rule. The NRC staff finds that the exemption meets the requirement in Section 50.12(a)(2)(ii) that special circumstances exist to grant the exemption.

4.0 Conclusion

Accordingly, the Commission has determined that, pursuant to 10 CFR 54.15 and 10 CFR 50.12, the exemption is authorized by law, will not present an undue risk to the public health and safety, and is consistent with the common defense and security. The exemption allows the applicant to forgo submitting the annual LRA amendment provided it submits an LRA amendment at least three months before the scheduled completion of the NRC's review. Therefore, the Commission hereby grants FPL the proposed exemption from the requirements of 10 CFR 54.21(b) for St. Lucie, Units 1 and 2, based on the circumstances described herein.

Pursuant to 10 CFR 51.32, the Commission has determined that the granting of this exemption will not have a significant effect on the quality of the human environment (67 FR 69254).

This exemption is effective upon issuance.

Dated at Rockville, Maryland, this 19th day of November, 2002.
For the Nuclear Regulatory Commission.
David B. Matthews,
Director, Division of Regulatory Improvement Programs, Office of Nuclear Reactor Regulation.

[FR Doc. 02-29983 Filed 11-25-02; 8:45 am]

BILLING CODE 7590-01-P